DEPARTMENT OF LABOR

Office of the Secretary

Submission for OMB Review: Comment Request

October 28, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation, including among other things a description of the likely respondents, proposed frequency of response, and estimated total burden, may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Training Administration.

Type of Review: Extension without change of an existing OMB Control Number.

Title of Collection: Labor Certification for the Temporary Employment of Nonimmigrant Aliens in Agriculture in the United States; Administration Measures to Improve Program Performance.

OMB Control Number: 1205-0404.

Affected Public: Private Sector—Business or other for-profits, Farms, Not-for-profit Institutions.

Total Estimated Number of Respondents: 385.

Total Estimated Annual Burden Hours: 96.

Total Estimated Annual Costs Burden: $0.

Description: The Department's regulation at 20 CFR 655.103(e) defines the “Fifty-percent Rule,” which requires the employer, who received a labor certification in the H-2A program, to provide employment to any qualified, eligible U.S. worker who applies to the employer until 50% of the time of need for the foreign worker has elapsed. Section 655.106(e)(1)(ii) mandates that agricultural employers inform the applicable State Workforce Agencies if the H-2A workers do not depart for the place of employment on or before the first date of need in writing (or orally and then confirmed in writing) as soon as the employer knows that the workers will not depart by the first date of need. This provision is necessary so that the SWA can begin calculation of when to stop referring workers under the Fifty-percent Rule and when the employer can cease active recruitment. For additional information, see related notice published at Volume 73 FR 36358 on June 26, 2008.

Darrin A. King,
Departmental Clearance Officer.

[FR Doc. E8-26104 Filed 10-31-08; 8:45 am]

BILLING CODE 4510-FP-P